DEPARTMENT OF JUSTICE

Notice of Lodging of Consent Decree Pursuant to the Comprehensive Environmental Response Compensation and Liability Act

Notice is hereby given that a proposed consent decree in United States v. City of Hastings, et al., Civil Action No. 8:07-cv-00365-LES-FG3 was lodged on September 14, 2007 with the United States District Court for the District of Nebraska. The United States filed this action pursuant to the Comprehensive Environmental Response, Compensation and Liability Act seeking clean up of groundwater contamination and recovery of costs incurred at the North Landfill Subsite (“Subsite”), one of the six subsites of the Hastings Ground Water Contamination Superfund Site located in Adams County, Nebraska.

The Consent Decree resolves the United States' claims by requiring the defendants the City of Hastings, Dravo Corporation, and Dutton-Lainson Company to implement the final remedial design/remedial action for the ground water operable unit and to pay the United States' past and future costs related to the Subsite. Under the Decree, the U.S. Navy will make an initial payment to the defendants of $250,000 and after the clean up is completed, pay the defendants 25% of their Response Costs in excess of $1,000,000.

The Department of Justice will receive, for a period of thirty (30) days from the date of this publication, comments relating to the proposed consent decree. Comments should be addressed to the Assistant Attorney General, Environment and Natural Resources Division, and either e-mailed to pubcomment-ees.enrd@usdoj.gov or mailed to P.O. Box 7611, U.S. Department of Justice, Washington, DC 20044-7611, and should refer to United States v. City of Hastings, et al. DOJ Ref. #90-11-2-1260/7.

The proposed consent decree may be examined at the office of the United States Attorney, 1620 Dodge Street, Omaha, Nebraska 68102, and at the Region VII Office of the Environmental Protection Agency, 901 North Fifth Street, Kansas City, Kansas 66101. During the public comment period, the proposed consent decree may also be examined on the Department of Justice Web site, at http://www.usdoj.gov/enrd/Consent_Decrees.html. A copy of the proposed consent decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $42.25 (or $12.00, for a copy that omits the exhibits and signature pages) (25 cents per page reproduction cost) payable to the U.S. Treasury or, if by e-mail or fax, forward a check in that amount to the Consent Decree Library at the stated address.

Robert E. Maher, Jr.
Assistant Section Chief, Environmental Enforcement Section, Environment and Natural Resources Division.

[FR Doc. 07-5030 Filed 10-11-07; 8:45 am]

BILLING CODE 4410-15-M